DEPARTMENT OF EDUCATION

Applications for New Awards; Rehabilitation Training: Innovative Rehabilitation Training Program

AGENCY: Office of Special Education and Rehabilitative Services, Department of Education.

ACTION: Notice.

SUMMARY: The U.S. Department of Education (Department) is issuing a notice inviting applications (NIA) for fiscal year (FY) 2025 for the Innovative Rehabilitation Training program.

DATES:

Applications Available: June 30, 2025.

Application Deadline: July 28, 2025.

Deadline for Intergovernmental Review: September 24, 2025.

Pre-Application Resources: OSERS will provide resources specific to this competition which will be available at https://ncrtm.ed.gov/RSAGrantInfo.aspx. OSERS invites you to send questions to 84.263G@ed.gov.

ADDRESSES: For the addresses for obtaining and submitting an application, please refer to the Application Submission Instructions section.

FOR FURTHER INFORMATION CONTACT: Felipe Lulli, U.S. Department of Education, 400 Maryland Avenue SW, Room 4A10, Washington, DC 20202-2800. Telephone: (202) 987-0128. Email: 84.263G@ed.gov.

If you are deaf, hard of hearing, or have a speech disability and wish to access telecommunications relay services, please dial 7-1-1.

SUPPLEMENTARY INFORMATION:

Full Text of Announcement

I. Funding Opportunity Description

Purpose of Program: The Innovative Rehabilitation Training program is designed to develop: (a) new types of training programs for rehabilitation personnel and to demonstrate the effectiveness of these new types of training programs for rehabilitation personnel in providing rehabilitation services to individuals with disabilities; (b) new and improved methods of training rehabilitation personnel so that there may be a more effective delivery of rehabilitation services to individuals with disabilities by designated State rehabilitation agencies and designated State rehabilitation units or other public or non-profit rehabilitation service agencies or organizations; and (c) new innovative training programs for VR professionals and paraprofessionals to have a 21st-century understanding of the evolving labor force and the needs of individuals with disabilities so they can more effectively provide VR services to individuals with disabilities.

Assistance Listing Number: 84.263G.

OMB Control Number: 1894-0006.

Eligible Applicants: States and public or private nonprofit agencies and organizations, including Indian Tribes and institutions of higher education.

Type of Award: Discretionary grants.

Estimated Available Funds: $3,200,000.

Estimated Range of Awards: $500,000-$640,000.

Maximum Award: We will not make an award exceeding $640,000 for a single budget period of 12 months.

Note: The Department is not bound by any estimates in this notice.

Estimated Number of Awards: Five to Seven.

Note: The Secretary intends to fund at least five projects in FY 2025, including one project addressing each of the five identified topic areas, provided we receive applications of sufficient quality under each topic area. As a result, the Secretary may fund applications out of rank order. Applicants may submit an application under more than one topic area. Applicants may also combine multiple topic areas in one application and submit it under Topic Area 5, Field Initiated.

Project Period: Up to 60 months.

Absolute Priority: For FY 2025, and any subsequent year in which we make awards from the list of unfunded applications from this competition, this priority is an absolute priority, with five related topic areas. In accordance with 34 CFR 74.105(b)(2)(ii), this priority is from the Notice of Final Priority and Requirements (NFP) published elsewhere in this issue of the Federal Register. We consider only applications that meet this priority. Applicants must identify the topic area or areas under which they are applying under the priority, as part of the competition title on the application cover sheet (SF form 424, line 13).

Absolute Priority: Innovative Rehabilitation Training on Emerging VR Counseling, Engagement, and Service Delivery Strategies Leading to Quality Employment in 21st Century Careers for Individuals With Disabilities.

Projects that propose a new innovative rehabilitation training program for rehabilitation personnel on emerging VR counseling, engagement, and service delivery best practices or strategies in any of five topic areas that provides a 21st century understanding of the evolving labor force and the needs of individuals with disabilities, resulting in more effective delivery of rehabilitation services to individuals with disabilities. The five topic areas under this priority are: (1) VR Counselor Participant Engagement Practices, (2) Career Assessment Addressing Emerging Career and Employment Trends, (3) Preparing VR Participants for High-Quality Employment in Science, Technology, Engineering, and Math (STEM) and Advanced Technology Careers, including Artificial Intelligence (AI), (4) Dual Customer Employer Engagement and Service Delivery Strategies, and (5) Field Initiated.

(1) VR Counselor Participant Engagement Practices. Proposed projects under this topic area must focus on improving VR counselors' knowledge and skills to effectively engage with VR participants through the VR continuum from referral and application to the provision of VR services under a signed IPE, and through the achievement of an employment outcome. This may include, for example, VR counseling relationship-building skills training; early and ongoing engagement strategies, including pre-employment transition services; benefits counseling, financial planning, and VR participant self-advocacy skills training; and the development of internal and external partnerships with cross-disciplinary VR agency specialists, employers, workforce development partners, Client Assistance Programs, and community-based organizations, including community rehabilitation programs (CRPs) and Centers for Independent Living (CILs).

(2) Career Assessment Addressing Emerging Career and Employment Trends. Proposed projects under this topic area must focus on strengthening the capacity of career assessment and vocational rehabilitation professionals to identify and support VR participants' informed choice and optimal career and employment goals, postsecondary education and training, credentialing and measurable skills attainment pathways, and comprehensive support needs including assistive technology, consistent with participants' unique strengths, abilities, capabilities, and interests. This may include, for example, providing vocational evaluation and comprehensive assessments; facilitating AI-enabled individual supports and accommodations;, conducting local and national labor market analyses; tracking emerging 21st century career trends in STEM and advanced technologies; exploring work options such as business ownership, self-employment, and telework; and identifying the most appropriate training and employment options including apprenticeships, customized employment, and career pathways. Projects under this priority may propose various approaches to strengthening the capacity of professionals through career assessment and vocational evaluation programs, courses, modules, practicums, and internships.

(3) Preparing VR Participants for High-quality Employment in STEM and Advanced Technology Careers, including AI. Proposed projects under this topic area must focus on maximizing the number of VR participants provided the opportunity to explore, consider, and pursue high quality careers in STEM and advanced technology careers, including AI, and other emerging high-quality fields. This may include, for example, early and meaningful exposure to such careers through quality pre-employment transition services; peer mentorship by persons with disabilities in such careers; identification of VR participants whose unique strengths, abilities, interests, and informed choice align with such careers; and partnerships with State and local educational agencies, Institutions of Higher Education (IHE), career and technical education programs, disability organizations, CRPs, and others to provide the appropriate training, education, and support services.

(4) Dual Customer Employer Engagement and Service Delivery Strategies. Proposed projects under this topic area must focus on helping VR agency personnel to engage effectively with employers through the provision of the services and training outlined in 34 CFR 361.32, meeting employers' needs for skilled workers while creating quality employment and training opportunities for VR participants. This may include, for example, strategies for identifying promising dual customer employer engagement opportunities; providing training and technical assistance to employers regarding the employment of individuals with disabilities, including disability awareness, and the requirements of the Americans with Disabilities Act and other employment-related laws; supporting VR agency capacity-building to provide quality dual customer services and training to employers; conducting outreach to employers, community-based organizations, and business associations highlighting VR agency capabilities and documented successes; and delivering dual customer services and training through the coordinated efforts of cross-disciplinary VR personnel, employers, and workforce development system partners.

(5) Field Initiated. Proposed projects under this topic area must address an area not specified in this priority, consistent with the stated purpose of the priority, or a combination of two or more topic areas specified in this priority.

Note: The numbering of the topic areas does not reflect an established hierarchy or preference among the topic areas.

Project Requirements: For FY 2025, and any subsequent year in which we make awards from the list of unfunded applications from this competition, applicants must meet the following project requirements from the NFP:

To meet the requirements of this priority, grantees must, at a minimum, conduct the following activities through innovative approaches:

(a) Establish the empirical basis of the proposed project objectives and activities. The applicant must identify the particular focus it intends to address within the selected topic area; the key knowledge and practice determinants of VR service effectiveness and employment outcome quality; and the empirical sources and rationale for the identified knowledge and practices, including available research, literature reviews, and relevant projects conducted by RSA or other Federal or non-government entities.

(b) Establish a process, including clear and actionable steps as well as specific timelines, to continue assessing innovative practices and training methods for possible incorporation, especially during the initial year of the grant, including stakeholder surveys to identify promising practices that the State VR agencies may already be implementing.

(c) Design an innovative, multifaceted training plan to convey the identified knowledge and practices. The training plan must specify the intended participants; proposed curricula, activities, and products including training modules, communities of practice, research studies, published articles, or videos; instructional and communication technologies, including AI-based methods and tools, if applicable; and knowledge translation methods adapted to diverse learning styles or ethnic and linguistic backgrounds. The training plan must address a broad range of VR professionals—decision-makers, counselors, cross-disciplinary specialists—and pertinent partners and stakeholders, as appropriate.

(d) Establish an advisory panel of one or more VR agencies and other pertinent stakeholders to help develop, implement, and evaluate the project. The applicant must describe the panel membership, structure, and responsibilities. Panel member responsibilities may include identifying key knowledge requirements, best practices, and innovative approaches for the training curricula and methods; coordinating with other interested parties to disseminate curricula, recruit training participants, engaging additional VR agencies and stakeholders; and participating in the project's continuous feedback, evaluation, and improvement processes.

(e) Prioritize key stakeholder engagement, partnerships, and information-sharing in the innovative training activities, including with IHEs, and relevant professional associations. The applicant must identify the stakeholders to be involved within each of the project's particular focus areas; the purpose and expected benefits of stakeholder involvement; anticipated communities of practices to facilitate stakeholder involvement; and the innovative or advanced convening or communication technologies to be used, as applicable.

(f) Establish continuous feedback, evaluation, and improvement processes, including action steps and clear timelines, to ensure that the training curricula and resources are responsive to the needs of the current and aspiring VR professionals and stakeholders; meet the project scope and objectives; and reflect evolving research, promising practices, and innovative training methods during the life of the grant.

(g) Disseminate, replicate, and sustain the innovative training curricula and resources. The applicant must post completed training curricula and related resources on National Clearinghouse of Rehabilitation Training Materials (NCRTM) and other appropriate venues on an ongoing basis; facilitate replication of training curricula by interested VR agencies, IHEs, or other interested parties; sustain and maintain the training curriculum beyond the life of the grant; and present innovative training curricula, resources, outcomes, and lessons learned in at least one national forum during the final year of the grant.

Selection Criteria: The following selection criteria are from 34 CFR 387.30 and 34 CFR 75.210. In responding to the selection criteria, applications should show how their proposed project meets the absolute priority, selected topic area(s), and project requirements outlined in this NIA.

(a) Relevance to State-Federal rehabilitation service program. (10 points)

(1) The Secretary reviews each application for information that shows that the proposed project appropriately relates to the mission of the State-Federal rehabilitation service program.

(2) The Secretary looks for information that shows that the project can be expected either—

(i) To increase the supply of trained personnel available to public and private agencies involved in the rehabilitation of individuals with disabilities; or

(ii) To maintain and improve the skills and quality of rehabilitation personnel.

(b) Significance. (5 points)

(1) In determining the significance of the proposed project, the Secretary considers the extent to which the resources, tools, and implementation lessons of the proposed project will be disseminated in ways to the target population and local community that will enable them and others (including practitioners, researchers, education leaders, and partners) to implement similar strategies.

(c) Quality of the project design. (35 points)

(1) In determining the quality of the design of the proposed project, the Secretary considers the following factors:

(i) The extent to which the goals, objectives, and outcomes to be achieved by the proposed project are clearly specified, measurable, and ambitious yet achievable within the project period, and aligned with the purposes of the grant program.

(ii) The extent to which the design of the proposed project demonstrates meaningful community engagement and input to ensure that the project is appropriate to successfully address the needs of the target population or other identified needs and will be used to inform continuous improvement strategies.

(iii) The extent to which the proposed project introduces an innovative approach, such as a modification of an evidence-based project component to serve different populations, an extension of an existing evidence-based project component, a unique composition of various project components to explore combined effects, or development of an emerging project component that needs further testing.

(iv) The likelihood that the services to be provided by the proposed project will lead to meaningful improvements in the skills and competencies necessary to gain employment in high-quality jobs, careers, and industries or build capacity for independent living.

(v) The extent to which the services to be provided by the proposed project involve the use of efficient strategies, including the use of technology, as appropriate, and the leveraging of non-project resources.

(vi) The curriculum and teaching methods provide for an integration of theory and practice relevant to the educational objectives of the program.

(vii) The extent to which the training or professional development services to be provided by the proposed project are of sufficient quality, intensity, and duration to build recipient and project capacity in ways that lead to improvements in practice among the recipients of those services.

(d) Adequacy of resources. (15 points)

(1) In determining the adequacy of resources for the proposed project, the Secretary considers the following factors:

(i) The extent to which the costs are reasonable in relation to the number of persons to be served, the depth and intensity of services, and the anticipated results and benefits.

(ii) The relevance and demonstrated commitment of each partner in the proposed project to the implementation and success of the project.

(iii) The potential for the purposes, activities, or benefits of the proposed project to be institutionalized into the ongoing practices and programs of the applicant, agency, or organization and continue after Federal funding ends.

(e) Quality of the management plan. (20 points)

(1) In determining the quality of the management plan for the proposed project, the Secretary considers the following factors:

(i) The feasibility of the management plan to achieve project objectives and goals on time and within budget, including clearly defined responsibilities, timelines, and milestones for accomplishing project tasks.

(ii) The extent to which the time commitments of the project director and principal investigator and other key project personnel are appropriate and adequate to meet the objectives of the proposed project.

(iii) The extent to which the project director or principal investigator, when hired, has the qualifications required for the project, including formal training or work experience in fields related to the objectives of the project and experience in designing, managing, or implementing similar projects for the target population to be served by the project.

(iv) The qualifications, including relevant training and experience, of project consultants or subcontractors.

(f) Quality of the project evaluation or other evidence-building. (15 points)

(1) In determining the quality of the evaluation or other evidence-building, the Secretary considers the following factors:

(i) The extent to which the methods of evaluation or other evidence-building are thorough, feasible, relevant, and appropriate to the goals, objectives, and outcomes of the proposed project.

(ii) The extent to which the methods of evaluation or other evidence-building will provide guidance for quality assurance and continuous improvement.

(iii) The extent to which the evaluation will provide guidance about effective strategies suitable for replication or testing and potential implementation in other settings.

Performance Measures: Pursuant to 34 CFR 75.110, the Secretary has established the following Program and Project performance measures which applicants must address in their applications.

Program measures:

(1) The quality of the training, as determined by a panel of VR agencies.

(2) Relevance of the training, as determined by a panel of VR agencies.

(3) Usefulness of the training, as determined by a panel of VR agencies.

Note: Applicants must describe their criteria and indicators for quality, relevance, and usefulness as well as the VR panel composition and process.

(4) The number of individuals enrolled or participating in the Innovative Rehabilitation Training program, by cohort.

(5) The number and percentage of individuals who successfully completed the Innovative Rehabilitation Training program, by cohort.

Project measures:

At least one proposed measure established by the applicant to demonstrate the project's impact on training participants, VR participants, or the field, reflecting the project's particular nature and scope.

Note: Task or process-related goals are not considered Project measures.

For each Program and Project measure, applications must include the baselines and the targets to be achieved by the end of period of performance and at each annual reporting period, as well as the corresponding data-collection, evaluation, and reporting plans. Applications must also show that the performance targets are ambitious yet achievable within the period of performance.

Program Authority: 29 U.S.C. 772.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474. (d) The regulations for this program in 34 CFR parts 385 and 387. (e) The NFP published elsewhere in this issue of the Federal Register.

Note: The regulations in 34 CFR part 79 apply to all applicants except federally recognized Indian Tribes.

Note: The regulations in 34 CFR part 86 apply to institutions of higher education only.

Cost Sharing or Matching: A grantee must contribute to the cost of a project under this program in an amount satisfactory to the Secretary. The part of the costs to be borne by the grantee is determined by the Secretary at the time of the grant award. For the purposes of this competition, the grantee is required to contribute at least 10 percent of the total cost of the project under this program. Furthermore, given the importance of cost sharing funds to the long-term success of the project, eligible entities must identify appropriate non-Federal funds in the proposed budget.

Indirect Cost Rate Information: Under 34 CFR 75.562(c), an indirect cost reimbursement on a training grant is limited to the recipient's actual indirect costs, as determined by its negotiated indirect cost rate agreement, or eight percent of a modified total direct cost base, whichever amount is less. Indirect costs in excess of the limit may not be charged directly, used to satisfy matching or cost-sharing requirements, or charged to another Federal award.

Subgrantees: Under 34 CFR 75.708(b) and (c) a grantee under this competition may not award subgrants to entities to directly carry out project activities described in its application. Under 34 CFR 75.708(e), a grantee may contract for supplies, equipment, and other services in accordance with 2 CFR part 200.

Application and Submission Information

1. Application Submission Instructions: Applicants are required to follow the Common Instructions for Applicants to Department of Education Discretionary Grant Programs (89 FR 104528, December 23, 2024).

2. Submission of Proprietary Information: Given the types of projects that may be proposed in applications for the Innovative Rehabilitation Training competition, your application may include business information that you consider proprietary. We define “business information” and describe the process we use in determining whether any of that information is proprietary and, thus, protected from disclosure under Exemption 4 of the Freedom of Information Act.

Because we plan to make successful applications available to the public, you may wish to request confidentiality of business information.

Please designate in your application any information that you believe is exempt from disclosure under Exemption 4. In the appropriate Appendix section of your application, under “Other Attachments Form,” please list the page number or numbers on which we can find this information.

3. Intergovernmental Review: This competition is subject to intergovernmental review under Executive Order 12372. Information about this process is in the application package.

4. Funding Restrictions: We reference regulations outlining funding restrictions in the Applicable Regulations section of this notice.

5. Recommended Page Limit: The application narrative (Part III of the application) is where you, the applicant, address the selection criteria that reviewers use to evaluate your application. We recommend that you (1) limit the application narrative to no more than 45 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, or the letters of support. However, the recommended page limit does apply to all of the application narrative.

6. Review and Selection Process: We remind potential applicants that in reviewing applications in any discretionary grant competition, the Secretary may consider the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

7. Risk Assessment and Specific Conditions: Before awarding grants under this competition the Department conducts a review of the risks posed by applicants. The Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

8. Integrity and Performance System: If you are selected under this competition to receive an award that over the course of the project period may exceed the simplified acquisition threshold (currently $250,000), we must make a judgment about your integrity, business ethics, and record of performance under Federal awards—that is, the risk posed by you as an applicant—before we make an award. In doing so, we must consider any information about you that is in the System for Award Management's (SAM) Responsibility/Qualification reports (formerly referred to as the Federal Awardee Performance and Integrity Information System (FAPIIS)). You may review and comment on any information about yourself that a Federal agency previously entered and that is currently in the Responsibility/Qualification reports in SAM.

If the total value of your currently active grants, cooperative agreements, and procurement contracts from the Federal Government exceeds $10,000,000, the reporting requirements in 2 CFR part 200, Appendix XII, require you to report certain integrity information to SAM semiannually. Please review these requirements if this grant plus all the other Federal funds you receive exceed $10,000,000.

Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements should you receive funding under the competition. This does not apply if you have an exception.

(b) At the end of your project's period of performance, you must submit a final performance report, including financial information, as directed by the Secretary. If you receive a multiyear award, you must submit semiannual and annual performance reports that provide the most current performance and financial expenditure information as directed by the Secretary. The Secretary may also require more frequent performance reports. For specific requirements on reporting, please go to www.ed.gov/fund/grant/apply/appforms/appforms.html.

5. Continuation Awards: In making a continuation award, the Secretary considers, among other things: whether a grantee has made substantial progress in achieving the goals and objectives of the project; whether the grantee has expended funds in a manner that is consistent with its approved application and budget; if the Secretary has established performance measurement requirements, whether the grantee has made substantial progress in achieving the performance targets in the grantee's approved application; and whether the continuation of the project is in the best interest of the Federal Government.

In making a continuation award, the Secretary also considers whether the grantee is operating in compliance with the assurances in its approved application, including those applicable to Federal civil rights laws that prohibit discrimination in programs or activities receiving Federal financial assistance from the Department.

Accessible Format: On request to the program contact person listed under For Further Information Contact, individuals with disabilities can obtain this document and a copy of the application package in an accessible format. The Department will provide the requestor with an accessible format that may include Rich Text Format (RTF) or text format (txt), a thumb drive, an MP3 file, braille, large print, audiotape, compact disc, or other accessible format.

Diana Diaz,
Deputy Assistant Secretary and Acting Assistant Secretary for Special Education and Rehabilitative Services.

[FR Doc. 2025-11805 Filed 6-25-25; 8:45 am]

BILLING CODE 4000-01-P